DEPARTMENT OF DEFENSE

Defense Acquisition Regulations System

[Docket Number DARS-2025-0004; OMB Control Number 0704-0574]

Information Collection Requirement; Defense Federal Acquisition Regulation Supplement (DFARS) Part 215, Only One Offer

AGENCY: Defense Acquisition Regulations System; Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: whether the proposed collection of information is necessary for the proper performance of the functions of DoD, including whether the information will have practical utility; the accuracy of DoD's estimate of the burden of the proposed information collection; ways to enhance the quality, utility, and clarity of the information to be collected; and ways to minimize the burden of the information collection on respondents, including through the use of automated collection techniques or other forms of information technology. The Office of Management and Budget (OMB) has approved this information collection for use under Control Number 0704-0574 through August 31, 2025. DoD proposes that OMB approve an extension of the information collection requirement, to expire three years after the approval date.

DATES: DoD will consider all comments received by July 7, 2025.

ADDRESSES: You may submit comments, identified by OMB Control Number 0704-0574, using either of the following methods:

• Federal eRulemaking Portal: https://www.regulations.gov. Follow the instructions for submitting comments.

• Email: osd.dfars@mail.mil. Include OMB Control Number 0704-0574 in the subject line of the message.

Comments received generally will be posted without change to https://www.regulations.gov, including any personal information provided.

FOR FURTHER INFORMATION CONTACT: Saleemah McMillan, at 202-308-5383.

SUPPLEMENTARY INFORMATION:

Title and OMB Number: Defense Federal Acquisition Regulation Supplement (DFARS) Part 215, Only One Offer and Related Clauses at 252.215; OMB Control Number 0704-0574.

Affected Public: Businesses or other for-profit and not-for-profit institutions.

Respondent's Obligation: Required to obtain or retain benefits.

Frequency: On occasion.

Number of Respondents: 1,691.

Responses per Respondent: 1.18.

Annual Responses: 1,988.

Average Burden per Response: 37.5 hours.

Annual Burden Hours: 74,550.

Needs and Uses: This information collection pertains to information that an offeror or contractor must submit to DoD if only one offer was received in response to a competitive solicitation, and the contracting officer must request certified cost or pricing data, to meet the standard for adequate price competition that is applicable to DoD. The Government requires this information in order to determine whether an offered price is fair and reasonable and to meet the statutory requirement for certified cost or pricing data. The contracting officer obtains this information through use of DFARS solicitation provisions 252.215-7008, Only One Offer, and DFARS 252.215-7010, Requirements for Certified Cost or Pricing Data and Data Other Than Certified Cost or Pricing Data. These provisions implement 10 U.S.C. 3702 and 10 U.S.C. 3705.

Jennifer D. Johnson,
Editor/Publisher, Defense Acquisition Regulations System.

[FR Doc. 2025-07748 Filed 5-2-25; 8:45 am]

BILLING CODE 6001-fr-P